DEPARTMENT OF TRANSPORTATION

Office of the Secretary

Aviation Proceedings, Agreements Filed Between September 29 and October 24, 2003

The following Agreements were filed with the Department of Transportation under the provisions of 49 U.S.C. Sections 412 and 414. Answers may be filed within 21 days after the filing of the application.

Agreements filed during week ending: October 3, 2003.

Docket Number: OST-2003-16247.

Date Filed: September 29, 2003.

Parties: Members of the International Air Transport Association.

Subject:

PTC23 EUR-J/K 0102 dated September 26, 2003,

PTC23/123 Europe-Japan, Korea,

Expedited Resolution 002bv r1.

PTC23 EUR-J/K 0103 dated September 26, 2003,

PTC23/123 Europe-Japan, Korea,

Expedited Resolution 002by r2,

Intended effective date: November 1, 2003 and January 1, 2004.

Agreements filed during week ending: October 10, 2003.

Docket Number: OST-2003-16286.

Date Filed: October 6, 2003.

Parties: Members of the International Air Transport Association.

Subject:

PTC23 ME-TC3 0186 dated September 26, 2003,

TC23/TC123 Middle East—TC3 Resolutions r1-r39

Minutes: PTC23 ME-TC3 0187 dated October 3, 2003,

Tables: PTC23 ME-TC3 Fares 0079 dated October 3, 2003,

Intended effective date: April 1, 2004.

Docket Number: OST-2003-16312.

Date Filed: October 10, 2003.

Parties: Members of the International Air Transport Association.

Subject:

PTC31 N&C/CIRC 0251 dated October 10, 2003,

TC31 North and Central Pacific,

TC3 (except Japan)-North America, Caribbean Expedited

Resolutions except between Korea (Rep. of), Malaysia and USA,

PTC31 N&C/CIRC 0252 dated October 10, 2003,

TC31 North and Central Pacific,

TC3-Central America, South America

Expedited Resolutions r1-r16,

Intended effective date: December 1, 2003.

Agreements filed during week ending: October 17, 2003.

Docket Number: OST-2003-16325.

Date Filed: October 15, 2003.

Parties: Members of the International Air Transport Association.

Subject:

Mail Vote 335,

PTC2 EUR-AFR 0182 dated October 14, 2003,

Resolution 042e from Tunisia to Libya,

Intended effective date: November 1, 2003.

Docket Number: OST-2003-16326.

Date Filed: October 15, 2003.

Parties: Members of the International Air Transport Association.

Subject:

Mail Vote 318,

PTC2 EUR-ME 0175 dated October 17, 2003,

TC2 Europe-Middle East,

Special Passenger Amending Resolution, between Egypt and Greece r1-r5,

Intended effective date: August 15, 2003.

Docket Number: OST-2003-16348.

Date Filed: October 17, 2003.

Parties: Members of the International Air Transport Association.

Subject:

CBPP/12/Meet/004/2003 dated October 2, 2003,

Book of Finally Adopted Resolutions/RPs r1-Reso 600a,

Minutes—CBPP/12/Meet/003/2003 dated October 2, 2003,

Intended effective date: January 1, 2004.

Agreements filed during week ending: October 24, 2003.

Docket Number: OST-2003-16353.

Date Filed: October 20, 2003.

Parties: Members of the International Air Transport Association.

Subject:

Mail Vote 336, 7PTC COMP 1098 dated October 21, 2003,

Resolutuion 024d-Angola,

Intended effective date: November 10, 2003.

Docket Number: OST-2003-16355.

Date Filed: October 21, 2003.

Parties: Members of the International Air Transport Association.

Subject:

PTC23 EUR-J/K 0104 dated October 3, 2003,

PTC23/123 Europe-Japan, Korea Resolutions r1-r27,

Minutes: PTC23 EUR-J/K 0105 dated October 21, 2003,

Tables: PTC23 EUR-J/K Fares 0052 dated October 3, 2003,

Intended effective date: April 1, 2004.

Docket Number: OST-2003-16358.

Date Filed: October 21, 2003.

Parties: Members of the International Air Transport Association.

Subject:

PTC23 EUR-SEA 0172 dated September 19, 2003,

PTC23/123 Europe-South East Asia Resolutions r1-r15,

Minutes: PTC23 EUR-SEA 0175 dated October 17, 2003,

Tables: PTC23 EUR-SEA Fares 0050 dated September 19, 2003,

Intended effective date: April 1, 2004.

Docket Number: OST-2003-16388.

Date Filed: October 22, 2003.

Parties: Members of the International Air Transport Association.

Subject:

Mail Vote 337,

PTC3 0671 dated October 24, 2003,

Resolution 010z Special Amending Resolution between China (excluding Hong Kong SAR and Macao SAR) and Japan, Thailand r1-r6,

Intended effective date: November 6, 2003.

Docket Number: OST-2003-16400.

Date Filed: October 24, 2003.

Parties: Members of the International Air Transport Association.

Subject:

Mail Vote 338,

PTC23 ME-TC3 0190 dated October 28, 2003,

Resolution 010a Special Amending Resolution between Middle East and TC3,

Intended effective date: April 1, 2004.

Andrea M. Jenkins,
Program Manager, Docket Operations, Federal Register Liaison.

[FR Doc. 03-27653 Filed 11-3-03; 8:45 am]

BILLING CODE 4910-62-P